EXPORT-IMPORT BANK

Intent To Conduct a Detailed Economic Impact Analysis

AGENCY: Policy and Planning Division, Export-Import Bank of the United States.

ACTION: Notice; withdrawal.

SUMMARY: This notice is to inform the public that the Export-Import Bank of the United States is withdrawing a previous Federal Register notice informing the public of its intent to conduct a detailed economic impact analysis regarding a loan guarantee to support the export of U.S.-manufactured Boeing 777 and Boeing 737 passenger aircraft to an airline in China. Based on new information not available at the time the original Federal Register notice was posted on July 23, 2014, the evaluated transaction does not meet the substantial injury threshold and is therefore not subject to a detailed economic impact analysis.

DATES: The Federal Register notice published on July 23, 2014 at 79 FR 42791 is withdrawn as of September 26, 2014.

FOR FURTHER INFORMATION CONTACT: Interested parties may submit comments on this transaction by email to economic.impact@exim.gov or by mail to 811 Vermont Avenue NW., attention Policy and Planning Division, Washington, DC 20571.

James C. Cruse,
Senior Vice President, Policy and Planning.

[FR Doc. 2014-22947 Filed 9-25-14; 8:45 am]

BILLING CODE P